DEPARTMENT OF LABOR

Agency Information Collection Activities; Submission for OMB Review; Work Schedules Supplement to the CPS

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that the agency receives on or before July 18, 2024.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: The Work Schedules Supplement to the Current Population Survey will gather information on work schedules and work at home of the employed. Information will be collected to broadly categorize work schedules, including identifying shift workers and workers with flexible schedules, and people who work at home, including those who work entirely at home. The 2024 work schedules supplement will allow researchers and policy makers to evaluate how the number and characteristics of shift workers and people who work at home has evolved. Policy makers also can use these data to inform the design of regulations for different types of workers. For additional substantive information about this ICR, see the related notice published in the Federal Register on March 22, 2024 (89 FRN 20502).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-BLS.

Title of Collection: Work Schedules Supplement to the CPS.

OMB Control Number: 1220-0119.

Affected Public: Individuals or Households.

Total Estimated Number of Respondents: 47,000.

Total Estimated Number of Responses: 47,000.

Total Estimated Annual Time Burden: 3,917 hours.

Total Estimated Annual Other Costs Burden: $1,000,000.

(Authority: 44 U.S.C. 3507(a)(1)(D))

Nicole Bouchet,
Senior Paperwork Reduction Act Analyst.

[FR Doc. 2024-13365 Filed 6-17-24; 8:45 am]

BILLING CODE 4510-24-P